DEPARTMENT OF COMMERCE

International Trade Administration

(A-570-894)

Certain Tissue Paper Products from the People’s Republic of China: Correction to Affirmative Preliminary Determination of Circumvention of the Antidumping Duty Order

AGENCY: Import Administration, International Trade Administration, Department of Commerce.

EFFECTIVE DATE: May 23, 2008.

FOR FURTHER INFORMATION CONTACT: Julia Hancock, Office 9, Import Administration, International Trade Administration, U.S. Department of Commerce, 14th Street and Constitution Avenue, NW., Washington, DC 20230; telephone: (202) 482-1394.

SUPPLEMENTARY INFORMATION:

CORRECTION:

On April 22, 2008, the Department of Commerce (“the Department”) published in the Federal Register the affirmative preliminary determination that certain tissue paper products (“tissue paper”) produced by Vietnam Quijiang Paper Co., Ltd. (“Quijiang”) are circumventing the antidumping duty order on tissue paper from the People’s Republic of China (“PRC”), as provided in section 781(b) of the Tariff Act of 1930, as amended (“the Act”). See Certain Tissue Paper Products from the People’s Republic of China: Affirmative Preliminary Determination of Circumvention of the Antidumping Duty Order and Extension of Final Determination, 73 FR 21580 (April 22, 2008) (“Preliminary Determination”). Subsequent to the issuance of the Preliminary Determination, we identified an inadvertent error in the Notice.

In the “Suspension of Liquidation” section of the Preliminary Determination, we stated that the Department will direct the U.S. Customs and Border Protection (“CBP”) to “suspend liquidation and require cash deposit of estimated duties, at the PRC-wide rate, on all unliquidated entries of tissue paper produced by Quijiang that were entered, or withdrawn from warehouse for consumption, on or after September 5, 2006, the date of initiation of the circumvention inquiry, through the date of publication of the preliminary determination.” See Preliminary Determination, 73 FR at 21587. Section 351.225(l)(2) of the applicable regulations provides that we shall order suspension of liquidation “on or after the date of initiation” of the inquiry and does not provide an end date. Accordingly, the Preliminary Determination should be corrected to indicate that, pursuant to section 773(d) of the Act, we will: (1) direct CBP to suspend liquidation and to require a cash deposit of estimated duties, at the PRC-wide rate, on all unliquidated entries of tissue paper produced by Quijiang that were entered, or withdrawn from warehouse, for consumption on or after September 5, 2006, the date of initiation of the circumvention inquiry, with the exception described in the Preliminary Determination; and (2) remove any mention of an end date of such suspension from our cash deposit instructions.

This correction to the affirmative preliminary circumvention determination is published in accordance with section 781(b) of the Act and 19 CFR 351.225.

Dated: May 13, 2008.
David M. Spooner,
Assistant Secretary for Import Administration.

[FR Doc. E8-11623 Filed 5-22-08; 8:45 am]

BILLING CODE 3510-DS-S